DEPARTMENT OF TRANSPORTATION

Federal Transit Administration

Over-the-Road Bus Accessibility Program Announcement of Project Selections

AGENCY: Federal Transit Administration, DOT.

ACTION: Notice of Project Selections.

SUMMARY: The U.S. Department of Transportation (DOT) Federal Transit Administration (FTA) announces the selection of projects to be funded under Fiscal Year (FY) 2007 and FY 2008 appropriations for the Over-the-Road Bus (OTRB) Accessibility Program, authorized by section 3038 of the Transportation Equity Act for the 21st Century (TEA-21). The OTRB Accessibility Program makes funds available to private operators of over-the-road buses to help finance the incremental capital and training costs of complying with DOT's Over-the-Road Bus accessibility rule.

FOR FURTHER INFORMATION CONTACT: The appropriate FTA Regional Office for grant-specific issues (Appendix A); or Blenda Younger, Office of Program Management, 202-366-2053, for general information about the OTRB Program.

SUPPLEMENTARY INFORMATION:

A total of $15.9 million, which includes $7.6 million in FY 2007 funds and $8.3 million in FY 2008 funds is available for allocation. Of the FY 2007 funds, $5.7 million is available to be awarded to intercity fixed-route providers and $1.9 million is available for other providers. Also, of the FY 2008 funds, $6.225 million is available to be awarded to intercity fixed-route providers and $2.075 million is available for other providers. The category of other providers includes commuter, charter, and tour bus operators.

A total of 123 applicants requested $41.6 million: $21.8 million was requested by intercity fixed-route providers, and $19.8 million was requested by all other providers. Project selections were made on a discretionary basis, based on each applicant's responsiveness to statutory project selection criteria, fleet size, and level of funding received in previous years. Because of the high demand for the funds available, most successful applicants received less funding than they requested, and applicants who did not meet the statutory criteria were not selected for funding. Selected projects will result in the addition of lifts to 375 new vehicles, the retrofitting of 96 vehicles, and $136,915 for training in the proper operation of the equipment. Each of the following 79 awardees listed in Table 1, as well as the 44 applicants who were not selected for funding, will receive a letter that explains how funding decisions were made.

Eligible project costs may be incurred by awardees prior to final grant approval. The incremental capital cost for adding wheelchair lift equipment to any new vehicles delivered on or after June 9, 1998, the effective date of TEA-21, is eligible for funding under the OTRB Accessibility Program. Applicants selected for funding may be contacted by FTA regional offices if additional information is needed before grants are made. Awards are processed through FTA's electronic grants management system, TEAM-WEB, and the project identification (ID) listed will be used to track the obligation of funds for the projects selected. The grant applications will be sent to the U.S. Department of Labor (DOL) for certification under labor protection requirements pursuant to 49 U.S.C. 5333(b). After referring applications to affected employees represented by a labor organization, DOL will issue a certification to FTA. Terms and conditions of the certification will be incorporated in the FTA grant agreement under the new guidelines replacing those in 29 CFR part 215. Please see Amendment to Section 5333(b), Guidelines to Carry Out New Programs Authorized by the Transportation Equity Act for the 21st Century (TEA-21); Final Rule (64 FR 40990, July 28, 1999).

Issued in Washington, DC, this 15th day of August, 2008.
James S. Simpson,
Administrator.

Appendix A

Richard H. Doyle: Regional Administrator, Region 1—Boston, Kendall Square, 55 Broadway, Suite 920, Cambridge, MA 02142-1093. Tel. 617-494-2055. States served: Connecticut, Maine, Massachusetts, New Hampshire, Rhode Island, and Vermont | Robert C. Patrick: Regional Administrator, Region 6—Ft. Worth, 819 Taylor Street, Room 8A36, Ft. Worth, TX 76102. Tel. 817-978-0550. States served: Arkansas, Louisiana, Oklahoma, New Mexico and Texas.
Brigid Hynes-Cherin, Regional Administrator, Region 2—New York, One Bowling Green, Room 429, New York, NY 10004-1415. Tel. No. 212-668-2170. States served: New Jersey, New York | Mokhtee Ahmad, Regional Administrator, Region 7—Kansas City, MO, 901 Locust Street, Room 404, Kansas City, MO 64106. Tel. 816-329-3920. States served: Iowa, Kansas, Missouri, and Nebraska.
Letitia Thompson, Regional Administrator, Region 3—Philadelphia, 1760 Market Street, Suite 500, Philadelphia, PA 19103-4124. Tel. 215-656-7100. States served: Delaware, Maryland, Pennsylvania, Virginia, West Virginia, and District of Columbia | Terry Rosapep, Regional Administrator, Region 8—Denver, 12300 West Dakota Ave., Suite 310, Lakewood, CO 80228-2583. Tel. 720-963-3300. States served: Colorado, Montana, North Dakota, South Dakota, Utah, and Wyoming.
Yvette Taylor, Regional Administrator, Region 4—Atlanta, 230 Peachtree Street, NW., Suite 800, Atlanta, GA 30303. Tel. 404-865-5600. States served: Alabama, Florida, Georgia, Kentucky, Mississippi, Islands | Leslie T. Rogers, Regional Administrator, Region 9—San Francisco, 201 Mission Street, Room 1650, San Francisco, CA 94105-1926. Tel. 415-744-3133. States served: American Samoa, Arizona, California, Guam, Hawaii, Nevada, and the Northern Mariana Islands.
Marisol Simon, Regional Administrator, Region 5—Chicago, 200 West Adams Street, Suite 320, Chicago, IL 60606. Tel. 313-353-2789. States served: Illinois, Indiana, Michigan, Minnesota, Ohio, and Wisconsin | Rick Krochalis, Regional Administrator, Region 10—Seattle, Jackson Federal Building, 915 Second Avenue, Suite 3142, Seattle, WA 98174-1002. Tel. 206-220-7954. States served: Alaska, Idaho, Oregon, and Washington.

BILLING CODE 4910-57-P

[FR Doc. E8-19358 Filed 8-21-08; 8:45 am]

BILLING CODE 4910-57-C